DEPARTMENT OF TRANSPORTATION

Federal Highway Administration

Notice To Rescind a Notice of Intent To Prepare an Environmental Impact Statement: Orange and San Diego Counties, CA

AGENCY: Federal Highway Administration (FHWA), Department of Transportation.

ACTION: Notice to rescind a Notice of Intent To Prepare an Environmental Impact Statement.

SUMMARY: The FHWA is issuing this notice to advise the public that it is rescinding two Notices of Intent (NOI) to prepare an Environmental Impact Statement (EIS) for a proposal to construct the extension of State Route 241 to Interstate 5 (I-5) in southern Orange County and northern San Diego County. The FHWA published the initial NOI in the Federal Register on February 20, 2001 and a supplemental NOI in the Federal Register on March 14, 2001. These rescissions are due in part to the U.S. Secretary of Commerce's December 2008 decision upholding the California Coastal Commission's (CCC) objection to the Foothill/Eastern Transportation Corridor Agency's (TCA) consistency determination for the proposed project. This NOI rescinds both NOIs.

FOR FURTHER INFORMATION CONTACT: Tay Dam, Senior Transportation Engineer, Federal Highway Administration, California Division, Cal South Office, 888 S. Figueroa, Ste. 750, Los Angeles, California 90017, or Adnan Maiah, Project Manager, Caltrans-District 12, 3347 Michelson Drive, Suite 100, Irvine, CA. 92612.

SUPPLEMENTARY INFORMATION: The FHWA, in coordination with the California Department of Transportation (Caltrans) and TCA, issued two NOIs on February 20, 2001 and March 14, 2001, to prepare an EIS for the proposed project. The project purpose was to alleviate future traffic congestion on I-5 and the arterial network in the southern Orange County area. The supplemental NOI provided notice of the preparation of a joint EIS pursuant to the National Environmental Policy Act and an Environmental Impact Report pursuant to the California Environmental Quality Act (CEQA).

In February 2008, the CCC objected to TCA's consistency determination for its Preferred Alternative under the federal Coastal Zone Management Act of 1972. TCA appealed the objection to the U.S. Secretary of Commerce, which upheld the CCC's decision in December 2008. Subsequently, TCA began exploring possible modifications and/or alternatives to the Southern Orange County Transportation Infrastructure Improvement Plan (SOCTIIP).

After consultation with TCA and Caltrans, the FHWA is rescinding the initial and supplemental NOIs based, in part, on the U.S. Secretary of Commerce's December 2008 decision. Continued operational and environmental studies conducted after the December 2008 decision did not result in a resolution of CCC concerns regarding the locally preferred alternative. Any future transportation improvements would be treated as a new project and would need to be initiated and proceed under separate environmental review processes, in accordance with all applicable laws and regulations.

(Catalog of Federal Domestic Assistance Program Number 20.205, Highway Planning and Construction. The regulations implementing Executive Order 12372 regarding intergovernmental consultation on Federal programs and activities apply to this program.)

Issued on: April 2, 2014.
Larry Vinzant,
Senior Environmental Protection Specialist, Sacramento, California.

[FR Doc. 2014-07803 Filed 4-7-14; 8:45 am]

BILLING CODE 4910-22-P